DEPARTMENT OF HEALTH AND HUMAN SERVICES

Substance Abuse and Mental Health Services Administration

The President's New Freedom Commission on Mental Health; Notice of Meeting

Pursuant to Executive Order 13263, notice is hereby given of a meeting of the President's New Freedom Commission on Mental Health in October 2002.

The meeting will be open and will consider how to accomplish the Commission's mandate to conduct a comprehensive study of the United States mental health service delivery system and to make recommendations on improving the delivery of public and private mental health services for adults and children. The Commission meeting will focus on issues relating to the Interim Report, which the Commission is required to send to the President by the end of October.

Attendance by the public will be limited to space available. Public comments are welcome. Please communicate with the individual listed as contact below to make arrangements to comment or to request special accommodations for persons with disabilities.

Additional information and a roster of Commission members may be obtained either by accessing the Commission Web site, www.mentalhealthcommission.gov, or by communicating with the contact whose name and telephone number is listed below.

Committee Name: The President's New Freedom Commission on Mental Health.

Meeting Date/Time:

Open: October 2, 2002, 4:30 p.m. to 6 p.m.

Open: October 3, 2002, 8:30 a.m. to 4:30 p.m.

Open: October 4, 2002, 8:30 a.m. to 1:30 p.m.

Place: Crystal Gateway Marriott, 1700 Jefferson Davis Highway, Arlington, Virginia 22202.

Contact: Claire Heffernan, Executive Secretary, 5600 Fishers Lane, Parklawn Building, Room 13C-26, Rockville, MD 20857, Telephone: (301) 443-1545; Fax: (301) 480-1554 and, e-mail: Cheffern@samhsa.gov, Web site: www.mentalhealthcommission.gov.

Dated: September 6, 2002.
Toian Vaughn,
Committee Management Officer, Substance Abuse and Mental Health Services Administration.

[FR Doc. 02-23107 Filed 9-11-02; 8:45 am]

BILLING CODE 4162-20-P